DEPARTMENT OF HOMELAND SECURITY

Coast Guard

[Docket No. USCG-2015-0002]

Declaration of Sea Area A1

ACTION: Notice.

SUMMARY: The Coast Guard is declaring Sea Area A1 in certain areas off the coast of the United States based upon the performance of the Coast Guard's Rescue 21 System, and in accordance with applicable provisions of the International Convention for the Safety of Life at Sea, 1974 (SOLAS). The Coast Guard defines Sea Area A1 as those areas where more than ninety percent of the area within 20 nautical miles seaward of the territorial baseline along the East, West and Gulf Coasts of the United States, excluding Alaska, and including Hawaii, Puerto Rico, Guam, the Virgin Islands of the United States, and the Northern Mariana Islands of Saipan, Tinian, and Rota, is within coverage of Coast Guard very high frequency (VHF) Coast Stations that provide both a continuous watch for Digital Selective Calling (DSC) distress alerts on Channel 70 and a capability to respond to distress alerts.

FOR FURTHER INFORMATION CONTACT: For questions on this Notice, contact Robert F. Salmon, telephone: 202-475-3537; email: Robert.F.Salmon@uscg.mil.

SUPPLEMENTARY INFORMATION: Rescue 21 is the Coast Guard's advanced command, control and direction-finding communications system that was created to better locate mariners in distress. By harnessing state-of-the-market technology, Rescue 21 enables the Coast Guard to execute its search and rescue missions with greater agility and efficiency which helps to save lives and property at sea and on navigable rivers. The Coast Guard's Rescue 21 system is comprised of strategically placed VHF Coast Stations that provide a continuous watch on DSC Channel 70 for receiving, and responding to, digital distress alerts.

In accordance with Chapter IV, Regulation 2 of the International Convention for the Safety of Life at Sea, 1974 (SOLAS), “Sea Area A1 means an area within the radiotelephone coverage of at least one VHF Coast Station in which continuous Digital Selective Calling (DSC) alerting is available, as may be defined by a Contracting Government.” International Maritime Organization (IMO) Resolution A. 801(19), which is cited in Chapter IV, Regulation 2, further provides that stations participating in VHF DSC watchkeeping in the Global Maritime Distress and Safety System (GMDSS) should provide as complete a coverage of the Sea Area A1 as is possible.

The performance of the currently built-out Rescue 21 system demonstrates that it provides coverage over more than 90 percent of those areas within 20 nautical miles seaward of the territorial baseline along the East, West, and Gulf coasts of the United States, excluding Alaska, and including Hawaii, Puerto Rico, Guam, the Virgin Islands of the United States, and the Northern Mariana Islands of Saipan, Tinian, and Rota. Based upon the demonstrated coverage and performance of the Rescue 21 System, and upon the applicable requirements of SOLAS, the Coast Guard is declaring as Sea Area A1 those areas within 20 nautical miles seaward of the territorial baseline along the East, West, and Gulf coasts of the United States, excluding Alaska, and including Hawaii, Puerto Rico, Guam, the Virgin Islands of the United States, and the Northern Mariana Islands of Saipan, Tinian, and Rota.

While not related to Sea Area A1, the Coast Guard would like to inform mariners that the Rescue 21 System also provides VHF Coast Stations along the Great Lakes so that continuous DSC alerting is available within 20 nautical miles offshore from more than 90 percent of U.S. locations along the Great Lakes. The Coast Guard is also building Rescue 21 facilities along the Western Rivers and in Alaska.

The Coast Guard would like to take this opportunity to remind mariners that no radiocommunications system can guaranty 100 percent coverage or 100 percent availability because of the vagaries of radio propagation and equipment performance. The Coast Guard urges all mariners to be sure that they have obtained and are using a proper Maritime Mobile Service Identity (MMSI), and that their DSC radios are connected to Global Positioning System (GPS) devices (if the DSC radio does not have built-in GPS). Assuring that a DSC alert is accompanied by both a properly registered MMSI and a GPS location significantly enhances and expedites search and rescue efforts.

It should be noted that this Declaration designating specified areas as Sea Area A1 will trigger certain radio carriage provisions of the Federal Communications Commission (FCC) Maritime Radio Service Rules and Regulations (47 CFR 80.1 et seq.). It is expected that the FCC will be issuing a Public Notice providing the details of specific vessel radio carriage requirements.

Authority: This notice is issued under authority of 14 U.S.C. 93(a)(16) and 5 U.S.C. 552(a).

Dated: January 9, 2015.
Glenn C. Hernandez,
Captain, U.S. Coast Guard, Chief, Office of Information Assurance and Spectrum Policy. Commandant (CG-65)

[FR Doc. 2015-00798 Filed 1-16-15; 8:45 am]

BILLING CODE 9110-04-P